DEPARTMENT OF DEFENSE

Department of the Navy

[DOD-2006-OS-0054]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on May 1, 2006, unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on March 23, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 24, 2006.
L.M. Bynum,
OSD Federal Register Liaison Officer, Department of Defense.

NM04066-2

System name:

Commercial Fidelity Bond Insurance Claims (September 20, 1993, 58 FR 48852).

Changes:

* * * * *

Authority for maintenance of the system:

Delete entry and replace with: “10 U.S.C. 5013, Secretary of the Navy and E.O. 9397 (SSN).”

* * * * *

Routine uses of records maintained in the system, including categories of users and the purposes of such uses:

Delete the following: “To the insurance carrier (Fidelity Bond Underwriter) to ensure appropriate coverage.”

* * * * *

Storage:

Delete entry and replace with: “Paper and automated records.”

* * * * *

Safeguards:

Delete entry and replace with: “Password controlled system. Physical access to terminals, terminal rooms, buildings and activities' grounds are controlled by locked terminals and rooms, guards, personnel screening and visitor registers.”

* * * * *

NO4066-2

System name:

Commercial Fidelity bond Insurance Claims.

System location:

Navy Exchange Service Command, 3280 Virginia Beach Boulevard, Virginia Beach, VA 23452-5724 (for all Navy exchanges).

Categories of individuals covered by the system:

Civilian and military personnel assigned to Navy exchanges, who the duly constituted authority (usually a Board of Investigation appointed by the base Commanding Officer) has established to be guilty of a dishonest act which has resulted in a loss of money, securities or other property, real or personal, for which the exchange is legally liable.

Categories of records in the system:

Equipment Loss Reports, Cash and/or Merchandise Loss Reports from Navy exchanges, included correspondence relating to losses.

Authority for maintenance of the system:

10 U.S.C. 5013, Secretary of the Navy and E.O. 9397 (SSN).

Purpose(s):

To render proper assistance in processing insurance claims.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems notices also apply to this system.

Policies and practices for storing, retrieving, accessing, retaining, and disposing of records in the system:

Storage:

Paper and automated records.

Retrievability:

Name, payroll number, Social Security Number, and activity.

Safeguards:

Password controlled system. Physical access to terminals, terminal rooms, buildings and activities' grounds are controlled by locked terminals and rooms, guards, personnel screening and visitor registers.

Retention and disposal:

Records are kept for four years and then retired to the Federal Records Centers, St. Louis, MO.

System manager(s) and address:

Policy Official: Commander, Navy Exchange Service Command, 3280 Virginia Beach Boulevard, Virginia Beach, VA 23452-5724.

Notification procedure:

Individuals seeking to determine whether this system of records contains information about themselves should address written inquiries to the Commander, Navy Exchange Service Command, 3280 Virginia Boulevard, Virginia Beach, VA 23452-5724.

In the initial inquiry the requester must provide full name, payroll or military service number and activity where they had their dealings. A list of other offices the requester may visit will be provided after initial contact is made at the office listed above. At the time of a personal visit, requesters must provide proof of identity containing the requester's signature.

Record access procedures:

Individuals seeking access to records about themselves should address written inquiries to the Commander, Navy Exchange Service Command, Resale and Services Support Office, 3280 Virginia Beach Boulevard, Virginia Beach, VA 23452-5724.

The request should contain full name, payroll or military service number and activity where they had their dealings. A list of other offices the requester may visit will be provided after initial contact is made at the office listed above. At the time of a personal visit, requesters must provide proof of identity containing the requester's signature.

Contesting record procedures:

The Navy's rules for accessing records, and for contesting contents and appealing initial agency determinations are published in Secretary of the Navy Instruction 5211.5; 32 CFR part 701; or may be obtained from the system manager.

Record source categories:

The individual; the insurance underwriter; audit reports; investigatory reports and/or activity loss records.

Exemptions claimed for the system:

None.

[FR Doc. 06-3075 Filed 3-29-06; 8:45 am]

BILLING CODE 5001-06-M